OFFICE OF MANAGEMENT AND BUDGET

Office of Federal Financial Management; Government-Wide Guidance for Use of Grants.gov FIND To Post Funding Opportunity Announcement Synopses

AGENCY: Office of Federal Financial Management (OFFM), Office of Management and Budget (OMB), Executive Office of the President.

ACTION: Notice of proposed policy guidance for use of E-Grants FIND.

SUMMARY: OMB proposes to issue a policy directive requiring Federal agencies to use the Grants.gov FIND module to electronically post synopses of funding opportunities under Federal financial assistance programs that award discretionary grants and cooperative agreements.

DATES: All comments on this proposal should be in writing, and must be received by July 23, 2003.

ADDRESSES: Due to potential delays in OMB's receipt and processing of mail sent through the U. S. Postal Service, we encourage respondents to submit comments electronically to ensure timely receipt. We cannot guarantee that comments mailed will be received before the comment closing date. Electronic mail comments may be submitted to: sswab@omb.eop.gov. Please include “Grants.gov FIND Policy Directive” in the subject line and the full body of your comments in the text of the electronic message and as an attachment. Please include your name, title, organization, postal address, telephone number, and E-mail address in the text of the message. Comments may also be submitted via facsimile to 202-395-3952. Comments may be mailed to Sandra Swab, Office of Federal Financial Management, Office of Management and Budget, Room 6025, New Executive Office Building, 725 17th Street, NW., Washington, DC 20503.

FOR FURTHER INFORMATION CONTACT: Sandra Swab, Office of Federal Financial Management, Office of Management and Budget, telephone 202-395-5642 (direct) or 202-395-3993 (main office) and e-mail: sswab@omb.eop.gov.

SUPPLEMENTARY INFORMATION: This Federal Register document seeks public comment on a policy directive that requires Federal agencies to use the Grants.gov FIND module to electronically post synopses of funding opportunities under Federal financial assistance programs that award discretionary grants and cooperative agreements. The policy directive includes an attachment which contains the government-wide standard set of data elements to be used by Federal agencies in posting synopses at www.FedGrants.gov. These data elements were first proposed for public comment in a Federal Register notice on August 12, 2002, [67 FR 52555]. The consideration of comments OMB received in response to the Federal Register notice, and the final set of data elements is published as another notice in this section of today's Federal Register.

We welcome your input on any aspect of the proposal contained in this notice. Questions that you may wish to address include:

• Do you feel this policy is sufficient for getting agencies to post synopses of funding opportunities?

• Are there any shortcomings in either the posting or retrieving of synopses from the Grants.gov Web site?

• Is there additional instruction that should appear in the policy directive?

Dated: June 17, 2003.
Linda M. Springer,
Controller.

To the Heads of Executive Departments and Agencies

Subject: Requirement and Format for Federal Agencies to Post Synopses at FedGrants.gov.

1. Purpose. This policy directive establishes a government-wide requirement for Federal agencies to electronically post synopses of announcements of funding opportunities under financial assistance programs that award discretionary grants and cooperative agreements, using a standard set of data elements. The purpose of the data elements is to give potential applicants (1) enough information about the funding opportunity to decide whether they are interested enough to look at the full announcement; and (2) provide one or more ways (e.g., an Internet site, e-mail address or telephone number) to get the full announcement with the detailed information. The data elements are the government-wide standard developed for the hundreds of Federal programs that award discretionary grants and cooperative agreements.

2. Authority. The policy directive is part of the implementation of the Federal Financial Assistance Management Improvement Act of 1999 (Public Law 106-107). This policy is also designed to further implement the Grants.gov initiative, one of the twenty-four electronic government (E-Gov) initiatives under the President's Management Agenda.

3. Background. Public Law 106-107 requires the Office of Management and Budget (OMB) to direct, coordinate, and assist Executive Branch departments and agencies in establishing an interagency process to streamline and simplify Federal financial assistance procedures for non-Federal entities. It also requires executive agencies to allow applicants to electronically apply for and report on the use of funds from any Federal financial assistance program administered by the agency.

Under the Grants.gov initiative, the Federal agencies are in the process of developing an electronic application system using standard core data elements. Part of the application process is the identification of the funding opportunity through www.FedGrants.gov. The posting of standard synopses in an electronic environment, provides government customers the opportunity to locate funding opportunities in one place and to decide whether or not to apply for the opportunity. Establishing data standards for the electronic format of the synopses and the posting of synopses on the Internet are in accordance with Public Law 106-107 and the President's Management Agenda.

4. Policy. The format attached to this policy directive is the government standard format for posting synopses at http://www.FedGrants.gov for programs that award discretionary grants and cooperative agreements. Agencies are required to post funding opportunities for all discretionary and cooperative agreement programs at http://www.FedGrants.gov. Agencies are also encouraged to post all types of Federal funding opportunities at http://www.FedGrants.gov.

a. Applicability. All Federal agencies will be required to post all discretionary and cooperative agreement awards at http://www.FedGrants.gov except for:

(1) A program that does not issue separate announcements apart from the program description in the Catalog of Federal Domestic Assistance (CFDA).

(2) A program that has 100 percent of potential eligible applicants who live outside the United States and who demonstrate lack of Internet access, and the agency has requested a waiver from OMB.

b. Effective Date. This policy directive is effective 30 days after issuance. All agencies shall begin posting announcement synopses at http://www.FedGrants.gov beginning October 1, 2003. For agencies that have funding opportunities which will close after October 1, 2003, and are to be posted prior to October 1, 2003, the agencies may choose to post synopses in the operational pilot which began in February 2003, and is currently available to the public.

Federal funding opportunities posted at http://www.FedGrants.gov will coincide with the posting and release of the full announcement information on the same day or within three business days.

c. Exemptions. Requests for exemptions must be directed to OMB, Office of Federal Financial Management (OFFM).

5. Agency Responsibilities.

a. Issue any needed direction to offices that award discretionary grant awards and cooperative agreements on the requirement and format to use to post a synopsis at http://www.FedGrants.gov. The synopsis must follow the format to ensure all required data elements are included.

b. Ensure the synopsis posted at http://www.FedGrants.gov will have full instructions regarding where to obtain the full announcement for the funding opportunity. To further satisfy the Administrative Procedures Act (APA), agencies may need to announce the funding opportunity in the Federal Register, by placing a short availability announcement of the opportunity with the agency contact name and telephone number in order for the public to receive the full announcement by mail and/or instructions for obtaining the information electronically (and the agency need not publish the full announcement or application package). Agency programs that are required by legislation to publish their full announcement in the Federal Register will have to do so until legislatively changed.

c. Obtain a Catalog of Domestic Assistance (CFDA) number for all programs that post a synopsis at http://www.FedGrants.gov.

6. Information Contact. Direct any requests for exemption or questions about this policy directive to Sandra Swab, OFFM, 202-395-5642 (direct) or 202-395-3993 (main office) or via e-mail (sswab@omb.eop.gov).

Linda M. Springer,

Controller.

Attachment (See previous Federal Register notice in this separate part).

[FR Doc. 03-15800 Filed 6-20-03; 8:45 am]

BILLING CODE 3110-01-P